DEPARTMENT OF ENERGY

Federal Energy Regulatory Commission

Combined Notice of Filings #1

Take notice that the Commission received the following electric rate filings:

Docket Numbers: ER19-1634-000; ER14-152-000; ER13-1141-000; ER13-1142-000; ER13-1143-000; ER13-1144-000; ER20-2452-000; ER20-2453-000; ER20-844-000; ER10-2196-000; ER20-528-000; ER17-1849-000; ER19-1009-000; ER16-918-000; ER10-2740-000; ER19-1633-000; ER15-1657-000; ER19-1638-000.

Applicants: Tiverton Power, LLC, SEPG Energy Marketing Services, LLC, Rumford Power, LLC, Rocky Road Power, LLC, Rhode Island State Energy Center, LP, Revere Power, LLC, Nautilus Power, LLC, Lincoln Power, L.L.C., Lakewood Cogeneration Limited Partnership, Hamilton Projects Acquiror, LLC, Hamilton Patriot LLC, Hamilton Liberty LLC, Essential Power Rock Springs, LLC, Essential Power OPP, LLC, Essential Power Newington, LLC, Essential Power Massachusetts, LLC, Elgin Energy Center, LLC, Bridgeport Energy LLC.

Description: Supplement to December 30, 2022, Triennial Market Power Analysis for Northeast Region of Lakewood Cogeneration Limited Partnership, et al.

Filed Date: 5/15/23.

Accession Number: 20230515-5282.

Comment Date: 5 p.m. ET 6/5/23.

Docket Numbers: ER23-1436-001.

Applicants: Upper Missouri G. & T. Electric Cooperative, Inc.

Description: Tariff Amendment: Amendment to Revised Rate Schedule FERC No. 2 (05.16.23) to be effective 6/1/2023.

Filed Date: 5/16/23.

Accession Number: 20230516-5108.

Comment Date: 5 p.m. ET 6/6/23.

Docket Numbers: ER23-1592-002.

Applicants: PJM Interconnection, L.L.C.

Description: Tariff Amendment: Amendment to Original WMPA, SA No. 6868; Queue No. AF2-165 to be effective 6/7/2023.

Filed Date: 5/16/23.

Accession Number: 20230516-5096.

Comment Date: 5 p.m. ET 6/6/23.

Docket Numbers: ER23-1891-000.

Applicants: PJM Interconnection, L.L.C.

Description: § 205(d) Rate Filing: Amendment to ISA, SA No. 5631; Queue No. AC1-098/AC1-099/AC2-084 (amend) to be effective 7/16/2023.

Filed Date: 5/16/23.

Accession Number: 20230516-5065.

Comment Date: 5 p.m. ET 6/6/23.

Docket Numbers: ER23-1893-000.

Applicants: Northern Indiana Public Service Company LLC.

Description: § 205(d) Rate Filing: St John CIAC Agreement to be effective 4/26/2023.

Filed Date: 5/16/23.

Accession Number: 20230516-5082.

Comment Date: 5 p.m. ET 6/6/23.

Docket Numbers: ER23-1894-000.

Applicants: Pome BESS LLC.

Description: Baseline eTariff Filing: POME BESS MBR Application Filing to be effective 5/17/2023.

Filed Date: 5/16/23.

Accession Number: 20230516-5112.

Comment Date: 5 p.m. ET 6/6/23.

Take notice that the Commission received the following electric securities filings:

Docket Numbers: ES23-46-000.

Applicants: Northern Indiana Public Service Company LLC.

Description: Application Under Section 204 of the Federal Power Act for Authorization to Issue Securities of Northern Indiana Public Service Company LLC.

Filed Date: 5/15/23.

Accession Number: 20230515-5323.

Comment Date:5 p.m. ET 6/5/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 16, 2023.
Debbie-Anne A. Reese,
Deputy Secretary.

[FR Doc. 2023-10829 Filed 5-19-23; 8:45 am]

BILLING CODE 6717-01-P